SECURITIES AND EXCHANGE COMMISSION

Sunshine Act Meeting

Sunshine Act Meeting; Federal Register Citation of Previous Announcement: [to be published]

Status: Open Meeting.

Place: 100 F Street, NE., L-002, Auditorium, Washington, DC.

Announcement of Additional Meeting: Open Meeting.

The Commission has scheduled an Open Meeting for Monday, September 10, 2007 at 10 a.m. in the Auditorium, Room L-002.

The SEC will hold its second annual Seniors Summit at its headquarters, 100 F Street, NE., Washington DC 20549. The event will further examine how regulators, community organizations, and others can increasingly coordinate efforts to protect older Americans from abusive sales practices and investment fraud.

At times, changes in Commission priorities require alterations in the scheduling of meeting items. For further information and to ascertain what, if any, matters have been added, deleted or postponed, please contact: The Office of the Secretary at (202) 551-5400.

Dated: August 30, 2007.
Florence E. Harmon,
Deputy Secretary.

[FR Doc. E7-17672 Filed 9-5-07; 8:45 am]

BILLING CODE 8010-01-P